FEDERAL COMMUNICATIONS COMMISSION

47 CFR Part 73

[DA 03-2091; MB Docket No. 03-141; RM-10703]

Radio Broadcasting Services; Corona de Tucson and Sierra Vista, Arizona

AGENCY: Federal Communications Commission.

ACTION: Proposed rule.

SUMMARY: This document requests comment on a petition for rulemaking filed on behalf of Cochise Broadcasting, LLC, licensee of Station KKYZ(FM), Sierra Vista, Arizona, requesting the substitution of Channel 267C3 for Channel 269A at Sierra Vista, reallotment of Channel 267C3 from Sierra Vista to Corona de Tucson, Arizona and modification of the license of Station KKYZ(FM) to specify the new community. Channel 267C3 can be allotted at Corona de Tucson at a site 7.7 kilometers (4.8 miles) east of the community at coordinates NL 31-57-24 and WL 110-41-40. While this site is short-spaced to Channels 267B in Agua Prieta, Sonora, Mexico, and 266B, Sasabe, Sonora, Mexico, Petitioner has pledged to protect those channels using contour protection in accordance with the US/Mexican Treaty. Concurrence of the Mexican government will also be requested for this allotment.

DATES: Comments must be filed on or before August 25, 2003, and reply comments on or before September 9, 2003.

ADDRESSES: Secretary, Federal Communications Commission, Washington, DC 20554.

FOR FURTHER INFORMATION CONTACT: Victoria M. McCauley, Media Bureau, (202) 418-2180.

SUPPLEMENTARY INFORMATION: This is a synopsis of the Commission's Notice of Proposed Rule Making, MB Docket No. 02-382, adopted July 1, 2003 and released July 3, 2003. The full text of this Commission decision is available for inspection and copying during normal business hours in the FCC's Reference Information Center at Portals II, CYA257, 445 Twelfth Street, SW., Washington, DC This document may also be purchased from the Commission's duplicating contractors, Qualex International, Portals II, 445 12th Street, SW., Room CY-B402, Washington, DC 20554, telephone 202-863-2893, or via e-mail qualexint@aol.com.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio, Radio broadcasting.

For the reasons discussed in the preamble, the Federal Communications Commission proposes to amend 47 CFR Part 73 as follows:

PART 73—RADIO BROADCAST SERVICES

1. The authority citation for Part 73 continues to read as follows:

Authority: 47 U.S.C. 154, 303, 334 and 336.

§ 73.202 [Amended]

2. Section 73.202(b), the Table of FM Allotments under Arizona, is amended by adding Corona de Tucson, Channel 267C3 and removing Channel 269A at Sierra Vista.

Federal Communications Commission.
John A. Karousos,
Assistant Chief, Audio Division, Media Bureau.

[FR Doc. 03-18248 Filed 7-17-03; 8:45 am]

BILLING CODE 6712-01-P